NUCLEAR REGULATORY COMMISSION

[Docket No. 40-8838-MLA-2; ASLBP No. 04-819-04-MLA]

United States Army; Jefferson Proving Ground Site; Designation of Presiding Officer

Pursuant to delegation by the Commission, see 37 FR 28710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: United States Army, Jefferson Proving Ground Site, Madison, Indiana, (Materials License Amendment).

The hearing will be conducted pursuant to 10 CFR part 2, subpart L, of the Commission's regulations, “Informal Hearing Procedures for Adjudications in Materials and Operator Licensing Proceedings.” This proceeding concerns a request for hearing submitted on November 26, 2003, by Save the Valley, Inc. The request was filed in response to an October 21, 2003, notice of consideration and opportunity for a hearing regarding a September 22, 2003, request from the United States Army to amend its 10 CFR part 40 source material license, which was published in the Federal Register on October 28, 2003 (68 FR 61471). The requested license amendment would create a five-year renewable possession-only license for the Army's Jefferson Proving Ground site.

The Presiding Officer in this proceeding is Administrative Judge Alan S. Rosenthal. All correspondence, documents, and other materials shall be filed with Judge Rosenthal in accordance with 10 CFR 2.1203. His address is: Alan S. Rosenthal, Administrative Judge, Presiding Officer, Atomic Safety and Licensing Board Panel, U.S. Nuclear Regulatory Commission, Washington, DC 20555-0001.

Issued in Rockville, Maryland, this 16th day of December, 2003.
G. Paul Bollwerk, III,
Chief Administrative Judge, Atomic Safety and Licensing Board Panel.

[FR Doc. 03-31423 Filed 12-19-03; 8:45 am]

BILLING CODE 7590-01-P